DEPARTMENT OF TRANSPORTATION

Pipeline and Hazardous Materials Safety Administration

[Docket No. PHMSA-2009-0253; Notice No. 09-4]

Notice of Approval: Lithium Battery Shipping Descriptions

AGENCY: Pipeline and Hazardous Materials Safety Administration (PHMSA).

ACTION: Notice of approval.

SUMMARY: PHMSA is authorizing persons who offer lithium metal and lithium ion cells and batteries for transportation in commerce, and persons who transport lithium metal and lithium ion cells and batteries in commerce, to describe those articles in the same manner as recently adopted in international regulations. PHMSA will consider adopting these alternate shipping descriptions into the Hazardous Materials Regulations at a future date.

DATES: Effective Date: This notice of approval is effective August 25, 2009.

FOR FURTHER INFORMATION CONTACT: Donald Burger, Office of Hazardous Materials Special Permits and Approvals, Pipeline and Hazardous Materials Safety Administration, U.S. Department of Transportation, East Building, 1200 New Jersey Avenue, SE., Washington, DC 20590-0001, telephone (202) 366-4535.

SUPPLEMENTARY INFORMATION:

I. Background

The § 172.101 Hazardous Materials Table (HMT) in the Hazardous Material Regulations (HMR; 49 CFR Parts 171-180) contains the following entries for lithium batteries, which apply to both lithium metal (primary; non-rechargeable) and lithium ion (secondary; rechargeable) batteries:

Lithium battery | 9 | UN3090 | PG II
Lithium batteries contained in equipment | 9 | UN3091 | PG II
Lithium batteries packed with equipment | 9 | UN3091 | PG II

In 2006, the United Nations Committee of Experts on the Transport of Dangerous Goods adopted separate entries for lithium metal and lithium ion batteries (see chart below) into the dangerous goods list in the Fifteenth revised edition of the UN Recommendations on the Transport of Dangerous Goods, in order to distinguish lithium metal from lithium ion batteries. The International Civil Aviation Organization (ICAO) and the International Maritime Organization subsequently adopted these entries into their respective dangerous goods lists.

We did not adopt these new shipping descriptions for lithium batteries in a final rule published January 14, 2009 under Dockets HM-224D and HM-215J (74 FR 2200) harmonizing the HMR with recent changes to international regulations because we had not proposed these changes in the notice of proposed rulemaking (NPRM) (73 FR 44803; July 31, 2008). In response to comments to the NPRM that urged PHMSA to adopt the separate entries for lithium metal and lithium ion batteries, we noted that the HMR permit compliance with the ICAO Technical Instructions for the Safe Transport of Dangerous Goods by Air (Technical Instructions). Thus, the separate shipping descriptions for lithium metal and lithium ion batteries may be used for air transportation, both domestically and internationally, and for transportation by motor vehicle and rail immediately before or after being transported by aircraft. [74 FR 2207] We also stated we planned to complete an assessment of the costs and benefits of further restrictions and available alternatives before developing additional lithium battery rulemaking proposals and therefore, PHMSA did not adopt changes to the lithium battery requirements including the separate shipping descriptions. [74 FR 2207]

Since that time, we have concluded that assigning the same shipping descriptions to both lithium metal and lithium ion batteries, which are regulated differently based on differences in chemistry, functionality, and behavior when exposed to a fire, causes significant problems in acceptance procedures for carriers and may unnecessarily hinder or delay the transportation of these products. While the HMR permit the use of the ICAO Technical Instructions as well as the International Maritime Dangerous Goods Code (IMDG Code) for domestic transportation when a portion of the transportation is by aircraft or vessel, subsequent domestic transportation of packages containing lithium batteries remains difficult.

PHMSA is currently working on a rulemaking intended to enhance the safe transportation of lithium batteries. As part of this rulemaking, we are considering adoption of the international shipping descriptions for lithium metal and lithium ion batteries. To facilitate commerce, however, PHMSA believes shippers should be permitted to use the international lithium battery shipping descriptions for the domestic transportation of lithium batteries even though the shipping descriptions have not been adopted into the HMR.

Section 172.101(l)(2) of the HMR permits alterations to the shipping descriptions in the HMT with prior written approval of the Associate Administrator for Hazardous Materials Safety. In accordance with § 172.101(l)(2), PHMSA is authorizing use of the lithium battery shipping descriptions (i.e., the lithium battery hazardous materials descriptions and UN identification numbers) that have been adopted into dangerous goods lists in the international regulations as alternatives to the lithium battery hazardous materials descriptions and UN identification numbers currently authorized in the HMT, effective as of the date of publication of this notice in the Federal Register. For clarity, the following chart provides a comparative list of the current shipping descriptions in the HMT and the corresponding international shipping descriptions that may be used.

HMR Shipping Description | International Shipping Description
Lithium battery | UN3090 | Lithium ion batteries including lithium ion polymer batteries | UN3480
|  | Lithium metal batteries including lithium alloy batteries | UN3090
Lithium batteries contained in equipment | UN3091 | Lithium ion batteries contained in equipment including lithium ion polymer batteries | UN3481
|  | Lithium metal batteries, contained in equipment including lithium alloy batteries | UN3091
Lithium batteries packed with equipment | UN3091 | Lithium ion batteries packed with equipment including lithium ion polymer batteries | UN3481
|  | Lithium metal batteries packed with equipment including lithium alloy batteries | UN3091

II. Approval

Regulatory Authority

Authority is granted under 49 CFR 172.101(l)(2) to persons who offer lithium metal and lithium ion cells and batteries for transportation in commerce, and persons who transport lithium metal and lithium ion cells and batteries in commerce, to use the following hazardous materials descriptions and UN identification numbers as alternatives to the hazardous materials descriptions and UN identification numbers set forth in the 49 CFR 172.101 Hazardous Materials Table, as applicable:

Lithium ion batteries contained in equipment including lithium ion polymer batteries | UN3481
Lithium ion batteries including lithium ion polymer batteries | UN3480
Lithium ion batteries packed with equipment including lithium ion polymer batteries | UN3481
Lithium metal batteries contained in equipment including lithium alloy batteries | UN3091
Lithium metal batteries including lithium alloy batteries | UN3090
Lithium metal batteries packed with equipment including lithium alloy batteries | UN3091

For the convenience of the user of this approval, the complete entries with the authorized alternative hazardous materials descriptions and UN identification numbers are as follows:

§ 172.101 Hazardous Material Table
Symbols | Hazardous materials descriptions and proper shipping names | Hazard class or division | Identification Nos. | PG | Label codes | Special provisions (§ 172.102) | Packaging (§ 173.***): Exceptions | Packaging (§ 173.***): Non-bulk | Packaging (§ 173.***): Bulk | Quantity limitations: Passenger aircraft/rail | Quantity limitations: Cargo aircraft only | Vessel stowage: Location | Vessel stowage: Other
(1) | (2) | (3) | (4) | (5) | (6) | (7) | (8A) | (8B) | (8C) | (9A) | (9B) | (10A) | (10B)
| Lithium ion batteries contained in equipment including lithium ion polymer batteries | 9 | UN3481 | II | 9 | 29, 188, 189, 190, A54, A55, A104 | 185 | 185 | None | See A104 | 35 kg | A. |
| Lithium ion batteries including lithium ion polymer batteries | 9 | UN3480 | II | 9 | 29, 188, 189,190, A54, A55, A100 | 185 | 185 | None | See A100 | 35 kg gross | A. |
| Lithium ion batteries packed with equipment including lithium ion polymer batteries | 9 | UN3481 | II | 9 | 29, 188, 189, 190, A54, A55, A103 | 185 | 185 | None | See A103 | 35 kg gross | A. |
| Lithium metal batteries contained in equipment including lithium alloy batteries | 9 | UN3091 | II | 9 | 29, 188, 189, 190, A54, A55, A101, A104 | 185 | 185 | None | See A101 | 35 kg | A. |
| Lithium metal batteries including lithium alloy batteries | 9 | UN3090 | II | 9 | 29, 188, 189,190, A54, A55, A100 | 185 | 185 | None | Forbidden. See A100 | 35 kg gross | A. |
| Lithium metal batteries packed with equipment including lithium alloy batteries | 9 | UN3091 | II | 9 | 29, 188, 189, 190, A54, A55, A101, A103 | 185 | 185 | None | See A101 | 35 kg gross | A. |

Conditions for Approval

This notice of approval does not provide relief from any other requirements of the Hazardous Materials Regulations (49 CFR Parts 171-180) except as stated herein. Lithium metal batteries continue to be prohibited onboard passenger-carrying aircraft except as provided in Special Provision A101 of § 172.101(c)(2). This approval is effective August 25, 2009 until terminated by the Associate Administrator for Hazardous Materials Safety.

Modes of Transportation Authorized

Motor vehicle, passenger and cargo aircraft, cargo vessel, and rail.

General Provisions

Failure by any person using this approval to comply with the terms and conditions of this approval or the HMR may result in suspension or termination of the authority to use this approval. Failure to comply may also subject persons to penalties prescribed in 49 U.S.C. 5123 and 5124.

Issued in Washington, DC, on August 18, 2009.
Robert Richard,
Acting Associate Administrator for Hazardous Materials Safety.

[FR Doc. E9-20343 Filed 8-24-09; 8:45 am]

BILLING CODE 4910-60-P